DEPARTMENT OF TRANSPORTATION

National Highway Traffic Safety Administration

Innovative Grants to Support Increased Safety Belt Use Rates

AGENCY: National Highway Traffic Safety Administration (NHTSA), Department of Transportation (DOT).

ACTION: Announcement of grants to support innovative and effective projects designed to increase safety belt use rates.

SUMMARY: NHTSA announces the sixth year of a grant program under section 1403 of the Transportation Equity Act for the 21st Century (TEA-21), as extended, to provide funding to States for innovative projects to increase safety belt use rates. Consistent with prior years, the goal of this program is to increase safety belt use rates across the Nation in order to reduce the deaths, injuries, and societal costs that result from motor vehicle crashes. Award of funds will be based on criteria specified in this Federal Register Notice. This Notice solicits applications from the States, the District of Columbia and Puerto Rico, through their Governors' Representatives for Highway Safety, for funds to be made available in fiscal year (FY) 2005. Detailed application instructions are provided in the Application Procedure and the Application Contents and Grant Criteria sections of this Notice.

DATES: Applications must be received by the appropriate NHTSA Regional Office on or before close of business on January 10, 2005.

ADDRESSES: Each State must submit its application to the appropriate NHTSA Regional Office, to the attention of the Regional Administrator, on or before close of business on January 10, 2005. Addresses of the ten Regional Offices are listed in Appendix A.

FOR FURTHER INFORMATION CONTACT: Questions relating to this grant program should be directed to Janice Hartwill-Miller, Occupant Protection Division (NTI-112), Office of Program Development and Delivery, NHTSA, 400 Seventh Street, SW., Room 5118, Washington, DC 20590, by e-mail at Janice.hartwill-miller@nhtsa.dot.gov, or by phone at (202) 366-2684. Interested applicants are advised that no separate application package exists beyond the contents of this announcement.

SUPPLEMENTARY INFORMATION:

Background

The Transportation Equity Act for the 21st Century (TEA-21), Public Law 105-178, was signed into law on June 9, 1998. Section 1403 of TEA-21 contains a safety incentive grant program based on safety belt usage rates in the States. Under this program, funds are allocated each fiscal year to States that exceed the national average safety belt use rate or that improve their State safety belt use rate, based on certain required determinations and findings. Section 1403 provides that any funds remaining unallocated in a fiscal year after determinations and findings related to safety belt use rates have been made are to be used to “make allocations to States to carry out innovative projects to promote increased safety belt use rates.” Pursuant to subsequent extensions of TEA-21, this program currently is authorized through May 31, 2005. Today's Notice solicits applications for funds that may become available in FY 2005 under this extension provision. Awards will be contingent on the availability of funds in FY 2005 and on the continued authorization of this grant program.

TEA-21 imposes several requirements under the innovative projects funding provision. Specifically, to be eligible to receive an allocation, a State must develop a plan for innovative projects to promote increased safety belt use rates statewide and submit the plan to the Secretary of Transportation (by delegation, to NHTSA). NHTSA was directed to establish criteria governing the selection of State plans for allocation of grant funds and was further directed to “ensure, to the maximum extent practicable, demographic and geographic diversity and a diversity of safety belt use rates among the States selected for allocations.” Finally, subject to the availability of funds, TEA-21 provides that the amount of each grant under a State plan should not be less than $100,000. However, based on past experience and to maximize the program's impact, NHTSA has determined that, subject to the availability of funds, no State will receive a grant award of less than $250,000.

In the following sections, the agency describes the application and award procedures for receipt of funds under this program for FY 2005. This description includes the requirements for content of a State proposal and the elements, procedures and criteria the agency will use to determine which proposals are eligible for award and the amount of each award. Applicants should note that awards are subject to the availability of funds, and Congress has to date, appropriated minimal funds for this program, through an FY 2005 Continuing Resolution.

These application and award procedures are built upon the experience of the past several years. They are designed to make the process as streamlined as possible and, at the same time, to ensure that the States use strategies proven to be effective in increasing safety belt usage. The award criteria have been designed to support States proposing to carry out intensified, statewide programs of high-visibility enforcement of their safety belt laws, with a paid media program supporting the enforcement activities. Experience from many States and over several years has shown that such programs can substantially increase safety belt use rates in a very short period of time and such gains can be sustained.

Objective of This Grant Program

The objective of this grant program is to increase statewide safety belt use rates by supporting strategies and activities with the greatest potential for impact.

To be considered for an award under this program in FY 2005, the State must conduct a program of high-visibility enforcement of its safety belt law. Further, the proposed program must focus on the national Click It or Ticket (CIOT) mobilization, spanning the period from Monday, May 9 through Sunday, June 5, 2005. The State's participation in that 4-week mobilization must include all of the following elements:

□ Earned media (press events, news conferences, etc.) spanning the entire 4-week period;

□ A paid media campaign, from Monday, May 16 through Sunday, May 29, featuring broadcast advertisements delivering the Click It or Ticket message, as its primary focused message or incorporating Click It or Ticket as a secondary theme, unless this is prohibited by law or Executive Order. Including the CIOT message in all communication pieces extends the benefit of national and state advertising funds and ensures nationwide branding of the CIOT message during the May Mobilization.

All media messaging, creative scripts, and ads must be approved by NHTSA. States using CIOT as a secondary theme must include prominent voice and/or print reference to the National CIOT message in all communication pieces (TV, radio, and print). This can be accomplished in a visual advertisement by inserting the text, Click It or Ticket, immediately following that of the State's primary message, or in the case of an audio advertisement, by including voice reference immediately following that of the State's primary message. Simply attaching the Click It or Ticket logo to a visual advertisement may not be sufficiently prominent to meet these requirements. We encourage States to submit media messaging plans to NHTSA as early as possible to ensure that time is available for any required modifications. (Puerto Rico may elect to utilize Spanish-language themes in its advertisements, rather than CIOT. Nevertheless, all of the Commonwealth's media messaging must be approved by NHTSA.)

□ Intensified enforcement activities (e.g., safety belt checkpoints, enforcement zones, saturation patrols) spanning the period from Monday, May 23 through Sunday, June 5, and involving the participation of law enforcement agencies serving at least 85 percent of the State's population.

□ Pre- and post-mobilization observational surveys of safety belt use.

The purpose of the pre-mobilization survey is to establish the current baseline for statewide safety belt use and to reflect any changes in usage since the last post-mobilization survey. The pre-mobilization observational survey may be either a full statewide survey or a sub-sample survey derived from the full survey design. Data collection for the pre-mobilization observational survey must begin no earlier than April 1 and conclude no later than May 8, 2005.

The post-mobilization observational survey must be a full statewide survey conforming to NHTSA's Uniform Criteria for State Observational Surveys of Seat Belt Use, (23 CFR Part 1340) (the “Uniform Criteria”), for which data collection must begin on or shortly after Monday, June 6 and must conclude no later than July 10, 2005.

After consultation with State representatives NHTSA has determined that one mobilization per year would be appropriate. Therefore, States applying for FY 2005 Innovative grant funding must use all FY 2005 Section 157 Innovative Grants to fund their participation in the May, 2005 national mobilization detailed above.

In addition, if States are planning a second high visibility enforcement period, or a program of sustained enforcement in addition to the May 9-June 5 mobilization, States may propose to use some of their carry-over Section 157 Innovative funds from prior years, along with any other available funds for those purposes (See Appendix D.) It should be noted that any subsequent safety belt enforcement mobilization should not be conducted during the Labor Day holiday, “You Drink and Drive. You Lose.” Crackdown to be conducted August 19-September 5, 2005.

Apart from the required pre- and post-mobilization observational surveys of safety belt use (preceding and following the May 9-June 5 mobilization), no evaluation activities are required of the States for the FY 2005 Section 157 Innovative grants. However, NHTSA will consider funding additional evaluation activities (e.g., telephone or Motor Vehicle Department surveys of public attitudes and awareness), should States propose them.

The following types of proposals will not be considered:

• A proposal designed to increase safety belt use in only a limited number of jurisdictions within the State;

• A proposal that lacks a commitment to the May 9-June 5, 2005 mobilization;

• A proposal that lacks a plan for paid media support for the mobilization;

• A proposal to employ a message other than Click It or Ticket (during the May mobilization), as its first or secondary theme, unless use of the Click It or Ticket message is prohibited by law or executive order;

• A proposal that lacks a commitment to conducting a full, statewide, Uniform-Criteria-compliant observational survey of safety belt use following the May 9-June 5, 2005 mobilization; or

• A proposal that lacks a commitment to conducting either a full statewide observational survey or a sub-sample survey derived from the full survey design prior to that mobilization.

As a condition of award, States must agree to provide the results of their own pre- and post-mobilization observational surveys to NHTSA, within the prescribed deadlines, to facilitate NHTSA's overall evaluation of the effectiveness of the FY 2005 grant program. NHTSA will share the results of its telephone surveys with the States. These data will provide information regarding the extent to which the public was aware of the enforcement, public information and education (PI&E), and outreach efforts in each State, thus assisting statewide evaluation efforts. States may also propose to conduct additional evaluation activities (e.g., conducting motorist surveys at DMVs or licensing centers). NHTSA will aid the States in such efforts wherever possible, such as by tabulating and analyzing the results of motorist/DMV surveys.

Award of Funds and Funding Levels

In FY 2005, the decision to award a Section 157 Innovative Grant to a State will be based on the determination that the activities planned have potential to make a significant impact in increasing safety belt use.

To maximize the potential for impact, it is anticipated that, subject to the availability of funds, no State will receive a grant award of less than $250,000. This $250,000 minimum was derived based on experience gained by the agency over the past 5 years of this Innovative Grant program. It reflects the agency's estimate of the minimum resources needed, in smaller or less populated States, to implement an effective statewide safety belt program that includes intensive enforcement, paid media and earned media, appropriate outreach, and pre- and post-mobilization observational surveys.

We expect that some States will receive more than this minimum amount. When developing their proposals for FY 2005, States are encouraged to consider their level of effort and budget for the May 2004 Click It or Ticket mobilization.

To the extent that the agency determines that activities proposed in a State's plan do not have substantial impact potential, these activities will not be funded.

Allowable Uses of Federal Funds

In FY 2005, the Section 157 Innovative Grants funds will be tracked in a fashion similar to other highway safety grants through the Grant Tracking System. Funds provided to a State under this grant program shall be used to carry out the approved activities described in the State's application for which the grant is awarded. In addition, allowable uses of Federal funds shall be governed by 49 CFR Part 18—Department of Transportation Uniform Administrative Requirements for Grants and Cooperative Agreements to State and Local Governments and the cost principles contained in OMB Circular A-87 or other Federal regulation or OMB Circular setting forth cost principles applicable to Federal grant funds, as appropriate.

Eligibility Requirements

Only the 50 States, the District of Columbia and Puerto Rico, through their Governors' Representatives for Highway Safety, will be eligible to receive funding under this grant program.

Application Procedures

Each applicant must submit one original and two copies of its application to the appropriate NHTSA Regional Office (see Appendix A), to the attention of the Regional Administrator. States may choose to submit their applications electronically (see Appendix A). Applications must be typed on one side of the page only and adhere to the requirements of the Application Contents and Grant Criteria Section below. Appendix B provides checklists to facilitate the preparation of the proposals. Only applications submitted by a State's Governor's Representative for Highway Safety and received in the appropriate NHTSA Regional Office on or before close of business on January 10, 2005 will be considered.

Application Options

In order to streamline this year's application and award process, simplified application options are available to most States.

Application Option A (Continued Program Strategies): Any State that received a Section 157 Innovative grant in 2004 and that converted at least ten percent of its 2003 non-belt users into belt users in 2004 (based upon observational surveys conforming to NHTSA's Uniform Criteria) or that has a 2004 safety belt use rate of at least 90 percent may submit in lieu of a full application, the information required under the Application Contents and Grant Criteria section, Application Option A—Continued Program Strategies. Option A is available to 24 States, the District of Columbia and Puerto Rico as listed in Appendix C.

Application Option B (Revised Program Strategies): Any State that received a Section 157 Innovative grant in FY 2004 and did not achieve either a 10 percent conversion of their safety belt use rate or reach 90 percent safety belt use, may elect to submit an application under the Application Contents and Grant Criteria section, Application Option B—Revised Program Strategies or a complete application under Application Option C—New Program Strategies. All other States that received a Section 157 Innovative grant in FY 2004, who wish to revise their application are eligible to submit Option B, as well. Option B is available to 47 States, the District of Columbia and Puerto Rico as listed in Appendix C.

Application Option C (New Program Strategies): Any State may submit a completely new application, including an Introduction, a detailed Program Plan, and all required checklists, certifications and budgetary information, as specified under the Application Contents and Grant Criteria section, Application Option C—New Program Strategies. Please note that any State that did not receive a Section 157 Innovative grant in FY 2004 must follow Option C.

Application Contents and Grant Criteria

1. Application Option A—Continued Program Strategies

A State that applies for a Section 157 Innovative grant in FY 2005 under Application Option A shall submit an application consisting of the following:

☐ The completed Application Option A checklist, (in Appendix B), with a checkmark in the “check if included” column for every item. (Additional High-Visibility Enforcement Program subsequent to May 9-June 5 mobilization is optional.)

☐ The Appendix C certifications, signed by the Governor's Representative for Highway Safety, with a checkmark on item (A) and on each of the items (i) through (v), and (vii) and (viii).

☐ Any evaluation activities the State proposes to carry out, beyond the observational surveys pre- and post- the May, 2005 mobilization.

☐ The proposed budget for the State's FY 2005 Section 157 Innovative grant, using the Appendix D format.

2. Application Option B “ Revised Program Strategies

A State that applies for a Section 157 Innovative grant in FY 2005 under Application Option B shall submit an application consisting of the following:

☐ The completed Application Option B checklist, (in Appendix B), with a checkmark in the “check if included” column for every item. (Additional High-Visibility Enforcement Program subsequent to May 9-June 5 mobilization is optional.)

☐ The Appendix C certifications, signed by the Governor's Representative for Highway Safety, with a checkmark on item (B) and on each of the items (i) through (v) and (vii) and (viii).

□ A brief description of what the State plans to do differently from the State's May, 2004 mobilization activities during the May, 2005 mobilization to increase its observed usage beyond the level achieved in FY 2004. Examples of additional effort might include: (1) Participation in a region-wide demonstration program; (2) shifting enforcement and/or media to a different geographic or demographic audience where safety belt use is lower; (3) better coordination of media and enforcement; and, (4) adoption of the CIOT message.

□ Any evaluation activities the State proposes to carry out, beyond the observational surveys pre- and post- the May, 2005 mobilization.

□ The proposed budget for the State's FY 2005 Section 157 Innovative grant, using the Appendix D format.

3. Application Option C—New Program Strategies

A State that applies for a Section 157 Innovative grant in FY 2005 under Application Option C shall submit a New Program Strategies application, consisting of:

□ The completed Application Option C checklist, (in Appendix B), with a checkmark in the “check if included” column for every item. (Additional High-Visibility Enforcement Program subsequent to May 9-June 5 mobilization is optional.)

□ The Appendix C certifications, signed by the Governor's Representative for Highway Safety, with a checkmark on item (C) and on each of the items (i) through (v) and (vii) and (viii).

□ An Introduction, discussing the State's current safety belt use rate and recent trends; the goal for increasing use rate in 2005; the State's geographic and demographic population distribution and any other unique characteristics relevant to the State's plans to increase belt use (e.g., ethnic sub-populations, variations in use rate by vehicle type); and, any available information pertinent to recent progress or lack of progress in increasing belt use.

□ A detailed Program Plan for the May, 2005 mobilization, describing how the State intends to recruit law enforcement participation in the mobilization and how much of the State's population (at least 85 percent) will be served by participating law enforcement agencies; how the mobilization will be publicized; the target audience and preliminary media buy strategy; the messaging (e.g., Click It or Ticket) the State intends to employ in the publicity; and the kinds of enforcement activities (e.g., checkpoints, saturation patrols) it plans to employ for the mobilization.

□ Any evaluation activities the State proposes to carry out, beyond the observational surveys pre- and post- the May, 2005 mobilization.

□ The proposed budget for the State's FY 2005 Section 157 Innovative grant, using the Appendix D format.

4. Budget: Under all three options, the Budget section of the State's application must include information on Section 157 Innovative grant funds remaining from prior fiscal years, and how much of those prior year funds will be allocated to support the May FY 2005 program. States are reminded that all remaining FY 2002 Section 157 Innovative funds must be expended by the end of FY 2005 (September 30, 2005).

Reporting Requirements and Deliverables: Each grant recipient will be responsible for providing the following reports:

1. Quarterly Reports—The quarterly reports should include a summary of enforcement and other activities and accomplishments for the preceding period, significant problems encountered or anticipated, a brief itemization of expenditures made during the 3-month reporting period, and proposed activities for the upcoming reporting period. Many States will continue to spend funds awarded during prior years of this Section 157 Innovative grant program, as well as funds awarded in FY 2005. NHTSA does not intend that States submit separate Quarterly Reports for the various funding years. Activities carried out during a reporting period under all four years of funding should be documented in the same report. However, the State should include a tabulation of the amount of funds expended during the reporting period from each year and any decisions and actions required in the upcoming program period should be included in the report.

2. Final Report—A Final Report that includes a summary of the impact of the FY 2005 program. It should include a complete description of the innovative projects conducted, including partners, overall program implementation, evaluation methodology and findings from the program evaluation, if any. In terms of information transfer, it is important to know what worked and what did not work, under what circumstances, and what can be done to avoid potential problems in future projects. The grantee shall submit three copies of the Final Report to the Regional Office within fifteen months following grant award.

Application Review Procedures

All applications will be reviewed by an Evaluation Committee to ensure that the application meets all of the requirements contained in this notice, including the requirements contained in the Application Contents and Grant Criteria section of the Notice. This evaluation process may include submission of technical or program questions from the evaluation committee to the applicants. In addition, the Evaluation Committee will determine whether the activities and identified resources included in the proposals have potential to make a significant impact on safety belt use. To the extent that the Evaluation Committee determines that proposed activities will not have substantial impact potential, such activities will not be recommended for funding.

More specifically, the Evaluation Committee's review will assess: (a) The comprehensiveness, intensity, feasibility, and potential impact of the proposed approach, (where Application Option A or B is elected, the Committee may rely on documentation from the previous year for assessment); (b) the extent to which adequate funding (from a variety of sources) has been identified to carry out the proposed program elements; and (c) the extent to which the funds requested in the grant proposal are allocated to the required program elements and not to activities with less potential for impact. Activities within any proposal that are determined by the evaluation team not to have significant potential for increasing safety belt usage in the State will not be approved for funding. Subject to the availability of funds, it is anticipated that awards will be made in February 2005.

Issued on: November 22, 2004.
Marilena Amoni,
Associate Administrator for Program Development and Delivery.

APPENDIX A: NHTSA REGIONAL OFFICES

New England Region (CT, MA, ME, NH, RI, VT), Volpe National Transportation Systems Center, 55 Broadway, Kendall Square, Code 903, Cambridge, MA 02142, region1@nhtsa.dot.gov.

Eastern Region (NJ, NY, PR), 222 Mamaroneck Avenue, Suite 204, White Plains, NY 10605, region2@nhtsa.dot.gov.

Mid-Atlantic Region (DE, DC, MD, PA, VA, WV), 10 South Howard Street, Suite 6700, Baltimore, MD 21201, region3@nhtsa.dot.gov.

Southeast Region (AL, FL, GA, KY, MS, NC, SC, TN), Atlanta Federal Center, 61 Forsyth Street, SW, Suite 17T30, Atlanta, GA 30303, region4@nhtsa.dot.gov.

Great Lakes Region (IL, IN, MI, MN, OH, WI), 19900 Governors Drive, Suite 201, Olympia Fields, IL 60461, region5@nhtsa.dot.gov.

South Central Region (AR, LA, NM, OK, TX), 819 Taylor Street, Room 8A38, Fort Worth, TX 76102-6177, region6@nhtsa.dot.gov.

Central Region (IA, KS, MO, NE), 901 Locust Street, Room 466, Kansas City, MO 64106, region7@nhtsa.dot.gov.

Rocky Mountain Region (CO, MT, ND, SD, UT, WY), 12300 West Dakota Avenue, Suite 140, Lakewood, CO 80228, region8@nhtsa.dot.gov.

Western Region (AZ, CA, HI, NV), 201 Mission Street, Suite 2230, San Francisco, CA 94105, region9@nhtsa.dot.gov.

Northwest Region (AK, ID, OR, WA), 3140 Jackson Federal Building, 915 Second Avenue, Seattle, WA 98174, region10@nhtsa.dot.gov.

Appendix B.—Application Checklist for Application Option A—Continued Program Strategies
[State: ___]
Element | Check if included | Description
1. Appendix C Certifications |  | Place a checkmark on application Option A. Place a checkmark on all items appropriate, (i) through (viii). Signature from Governor's Highway Safety Representative for certification of all checked items.
2. Additional High-Visibility Enforcement Program subsequent to May 9-June 5 Mobilization (Optional) |  | Describe a credible plan for carrying out a Subsequent Stepped Up Enforcement program supported by (at least) earned media.
3. Appendix D Budget |  | Detail all cost elements and the total proposed cost, following the format in Appendix D.
4. Appendix D Budget |  | Include information on remaining grant funds from Section 157 Innovative, and how they will be applied to the May and/or subsequent mobilization in FY 2005.
5. Appendix D Budget |  | Identify the share of the total proposed cost that will be allocated to the May, 2005 Mobilization and each of its major sub-elements (earned media, paid media, intensified enforcement and safety belt observational surveys).

Appendix B.—Application Checklist for Application Option B—Revised Program Strategies
[State: ___]
Element | Check if included | Description
1. May Mobilization Enhancements |  | Describe a credible plan for enhancing the State's May 2004 Mobilization activities in May 2005.
2. Appendix C Certifications |  | Place a checkmark on application option B. Place a checkmark on all items appropriate, (i) through (viii). Signature from Governor's Highway Safety Representative for certification of all checked items.
3. Additional High-Visibility Enforcement Program subsequent to May 9-June 5 Mobilization (Optional) |  | Describe a credible plan for carrying out a Subsequent Stepped Up Enforcement program supported by (at least) earned media.
4. Appendix D Budget |  | Detail all cost elements and the total proposed cost, following the format in Appendix D.
5. Appendix D Budget |  | Include information on remaining grant funds from Section 157 Innovative, and how they will be applied to May and/or subsequent mobilization in FY 2005.
6. Appendix D Budget |  | Identify the share of the total proposed cost that will be allocated to the May, 2005 Mobilization and each of its major sub-elements (earned media, paid media, intensified enforcement and safety belt observational surveys).

Appendix B.—Application Checklist for Application Option C—New Program Strategies
[State:___]
Element | Check if included | Description
1a. Introduction |  | Describe the State's geographic and demographic population distribution and other unique characteristics relevant to State's plan.
1b. Introduction |  | Describe the State's current use rate and recent trends, and discuss factors contributing to recent progress or lack of progress.
1c. Introduction |  | Specify a realistic goal for increasing safety belt use in 2005.
2. Appendix C Certifications |  | Place a checkmark on application option C. Place a checkmark on all items appropriate, (i) through (viii). Signature from Governor's Highway Safety Representative for certification of all checked items.
3. Additional High-Visibility Enforcement Program subsequent to May 9-June 5 Mobilization (Optional) |  | Describe a credible plan for carrying out a Subsequent Stepped Up Enforcement program supported by (at least) earned media.
4. May Mobilization Program Plan |  | Describe a credible plan for carrying out the May 9-June 5 Mobilization, including enforcement, earned and paid media and observational surveys.
5. Appendix D Budget |  | Detail all cost elements and the total proposed cost, following the format in Appendix D.
6. Appendix D Budget |  | Include information on remaining grant funds from Section 157 Innovative, and how they will be applied to the May and/or subsequent mobilization in FY 2005.
7. Appendix D Budget |  | Identify the share of the total proposed cost that will be allocated to the May, 2005 Mobilization and each of its major sub-elements (earned media, paid media, intensified enforcement and safety belt observational surveys).

APPENDIX C: CERTIFICATIONS

The State must select only one Application Option:

Application Option

(A) __State is submitting a Continued Program Strategies Application and plans to replicate its May 2004 Mobilization in May 2005.

Only the States of Alabama, Arizona, California, Connecticut, Delaware, District of Columbia, Florida, Georgia, Hawaii, Illinois, Kansas, Maine, Michigan, Minnesota, Missouri, North Dakota, Nebraska, Nevada, New Mexico, Oklahoma, Oregon, Pennsylvania, Puerto Rico, Tennessee, Virginia, and Washington may choose this option, as their May, 2004 Mobilization converted at least ten (10) percent of the 2003 non-belt users into users or they have a FY2004 safety belt use rate of at least 90 percent.

Application Option

(B) __State is submitting a Revised Program Strategies Application and will include a brief description of its plans to revise or enhance the May 2005 Mobilization, over its approach to the May, 2004 Mobilization.

Any State listed in item (A) above may choose Option (B). Also the States of Alaska, Arkansas, Colorado, Iowa, Idaho, Indiana, Kentucky, Louisiana, Massachusetts, Maryland, Mississippi, Montana, North Carolina, New Jersey, New York, Ohio, Rhode Island, South Carolina, Texas, Utah, Vermont, Wisconsin and West Virginia may choose to submit an application under Option B—Revised Program Strategies, because these States did not convert at least ten percent of the 2003 non-belt users into users or reach 90 percent safety belt use.

Application Option

(C) __State is submitting a New Program Strategies Application in FY 2005.

Any State may elect to submit a complete application. New Hampshire, South Dakota and Wyoming must submit a New Program Strategies Application because those States did not receive a Section 157 Innovative grant in FY 2004.

The State must certify to the following items (i) through (v) and (vii) and (viii). The State may certify to item (vi).

(i) __The State will use the funds awarded under this grant program exclusively to implement a statewide safety belt program in accordance with the requirements of Section 157(b) of P.L. 105-178 (TEA-21), as extended.

(ii) __The State will administer the funds in accordance with 49 CFR Part 18 and OMB Circular A-87.

(iii) __The State will conduct a statewide Mobilization of high-visibility enforcement of its safety belt law from Monday, May 9 through Sunday, June 5, 2004. The Mobilization will include earned media (press events, news conferences, etc.) spanning the entire 4-week period; a paid advertising campaign, from Monday, May 16 through Sunday, May 29, featuring broadcast advertisements delivering the Click It or Ticket message, or other enforcement focused message that incorporates CIOT as a secondary theme. (All media, creative scripts, and ads require explicit NHTSA approval; intensified enforcement activities (e.g., safety belt checkpoints, enforcement zones, saturation patrols) spanning the period from Monday, May 23 through Sunday, June 5, and involving the participation of local law enforcement agencies serving at least 85 percent of the State's population.

(iv) __The State will conduct pre- and post-mobilization observational surveys of safety belt use. The post-mobilization observational survey will be a full statewide survey conforming to NHTSA's Uniform Criteria, for which data collection will begin on or shortly after Monday, June 6 and will conclude no later than July 10, 2005. The pre-mobilization observational survey will be either a full statewide survey or a sub-sample survey derived from the full survey design; data collection for the pre-observational survey will begin no earlier than Friday, April 1, and conclude no later than Sunday, May 8.

(v) __The State will provide pre- and post-mobilization observational survey data on safety belt use for the May, 2005 Mobilization within one month following the collection of the data.

(vi) __(Optional) The State will conduct an additional program of high-visibility enforcement of its safety belt law at one or more time periods during 2005, subsequent to the May 9-June 5 mobilization.

(vii) __The State will provide to the NHTSA Regional Administrator, no later than 15 months after the grant award, a report of activities carried out with grant funds and accomplishments to date.

(viii) __The State will comply with all applicable laws and regulations, financial and programmatic requirements.

Governor's Highway Safety Representative

Date

BILLING CODE 4910-59-P

[FR Doc. 04-26351 Filed 11-29-04; 8:45 am]

BILLING CODE 4910-59-C